DEPARTMENT OF THE INTERIOR

Bureau of Land Management

[WO-310-1310-PB-24 1A]

Extension of Approved Information Collection, OMB Control Number 1004-0137

AGENCY: Bureau of Land Management, Interior.

ACTION: Notice and request for comments.

SUMMARY: In accordance with the Paperwork Reduction Act of 1995, the Bureau of Land Management (BLM) requests the Office of Management and Budget (OMB) to extend an existing approval to collect certain information from oil and gas well operators concerning operations performed on each well. We collect form and nonform information to determine whether BLM may approve proposed operations and to enable us to monitor compliance with terms and conditions of approved operations.

DATES: You must submit your comments to BLM at the address below on or before August 8, 2006. BLM will not necessarily consider any comments received after the above date.

ADDRESSES: You may mail comments to: Bureau of Land Management, (WO-630), Eastern States Office, 7450 Boston Blvd., Springfield, Virginia 22153.

You may send comments via Internet to: comment_washington@blm.gov. Please include “ATTN: 1004-0137” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Barbara Gamble, Fluid Minerals Group, on (202) 425-03389 (Commercial of FTS). Persons who use a telecommunication device for the deaf (TDD) may call the Federal Information Relay Service on 1-800-877-8330, 24 hours a day, seven days a week, to contact Ms. Gamble.

SUPPLEMENTARY INFORMATION: 5 CFR 1320.12(a) requires that we provide a 60-day notice in the Federal Register concerning a collection of information to solicit comments on:

(a) Whether the collection of information is necessary for the proper functioning of the agency, including whether the information has practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Mineral Leasing Act of 1920 (30 U.S.C. 181 et seq.), as amended; the Mineral Leasing Act for Acquired Lands of 1947 (30 U.S.C. 351-359), as amended; the various Indian leasing acts; the National Environmental Policy Act of 1969 (42 U.S.C. 4321, et seq.), as amended; and other environmental laws govern onshore oil and gas operations. BLM's implementing regulations are 43 CFR part 3160.

(1) Section 43 CFR 3162.3-1 requires oil and gas well operators to submit an Application for Permit to Drill (Form 3160-3) for each well at least 30 days before any drilling operations or surface disturbances are commenced.

(2) Section 43 CFR 3162.4-1(b) requires oil and gas well operators to submit a Well Completion or Recompletion Report and Log (Form 3160-4) within 30 days after well completion.

(3) Section 43 CFR 3162.3-2 requires oil and gas operators on Federal and restricted Indian lands to submit Form 3160-5, Sundry Notices and Reports on Wells, in order to obtain authority to perform specific additional operations on a well and to report the completion of such work.

BLM uses the information for inspection and reservoir management purposes. Technical data provide means to evaluate the appropriateness of specific drilling and completion techniques. The data enable us to monitor the engineering aspects of oil and gas production. We would lack the necessary information to monitor compliance of well activity and operations that were performed on wells if we did not collect this information.

Based on our experience administering the onshore oil and gas program, we estimate the public reporting burden for the information collected on Form 3160-3 is 30 minutes per response. Respondents are operators of oil and gas wells. The frequency of response varies depending on the operations. We estimate the number of responses per year is 4,000 and the total annual burden is 2,000 hours.

We estimate the public reporting burden for the information collected on Form 3160-4 is 1 hour per response. The information collected is already maintained by respondents for their own recordkeeping purposes and must only be entered on the form. Respondents are operators of oil and gas wells. The frequency of response varies depending on the type of activity or operation conducted at oil and gas wells. We estimate the number of responses per year is 2,200 and the total annual burden is 2,200 hours.

We estimate the public reporting burden for the information collection on Form 3160-5 is 25 minutes per response. Respondents are operators and operating rights owners of Federal and Indian (except Osage) oil and gas leases. The frequency of response varies depending on the type of activities or operations conducted. We estimate 34,000 notices filed annually and a total annual burden of 14,167 hours.

The table below summarizes our nonform estimates.

Information collection (43 CFR) | Requirement | Hours per response | Respondents | Burden hours
3162.3-1(a) | Well-Spacing Program | .5 | 150 | 75
3162.3-1(e) | Drilling Plans | 8 | 2,875 | 23,000
3162.6 | Well Markers | .5 | 300 | 150
3162.5-2(b) | Direction Drilling | 1 | ¹ 165 | 165
3162.4-2(a) | Drilling Tests, Logs, Surveys | 1 | ² 330 | 330
3162.3-4(a) | Plus and Abandon for Water Injection | 1.5 | 1,200 | 1,800
3162.3-4(b) | Plug and Abandon for Water Source | 1.5 | 1,200 | 1,800
3162.7-1(d) | Additional Gas Flaring | 1 | 400 | 400
3162.5-1(c) | Report of Spills, Discharges, or Other Undesirable Events | 2 | 200 | 400
3162.5-1(b) | Disposal of Produced Water | 2 | 1,500 | 3,000
3162.5-1(d) | Contingency Plan | 16 | 50 | 800
3162.4-1(a) and 3162.7y095(d)(1) | Schematic/Facility Diagrams | 4 | 2,350 | 9,400
3162.7-1(b) | Approval and Reporting of Oil in Pits | .5 | 520 | 260
3164.1 (Order No. 3) | Prepare Run Tickets | .2 | 90,000 | 18,000
3162.7-5(b) | Records on Seals | .2 | 90,000 | 18,000
3165.1(a) | Application for Suspension | 8 | 100 | 800
3165.3(b) | State Director Review | 16 | 100 | 1,600
3162.7-5(c) | Site Security | 7 | 2,415 | 16,905
Totals |  |  | 193,855 | 96,885
¹ Or 5% of wells.
² Or 10% of wells.

The respondents already maintain the types of information collected for their own recordkeeping purposes and need only submit the required information. This approval includes all information collections under 43 CFR part 3160 that do not require a form.

[FR Doc. 06-5234 Filed 6-8-06; 8:45 am]

BILLING CODE 4310-84-M